DEPARTMENT OF ENERGY

Federal Energy Regulatory Commission

[Docket No. RP00-437-000]

Cove Point LNG Limited Partnership; Notice of Tariff Filing

August 11, 2000.

Take notice that Cove Point LNG Limited Partnership (Cove Point) tendered for filing on August 7, 2000 certain revised tariff sheets to its FERC Gas Tariff, First Revised Volume No. 1. The proposed effective date of such tariff sheets is March 27, 2000. Cove Point also tendered for filing on August 7, 2000 certain revised tariff sheets to its FERC Gas Tariff, Second Revised Volume No. 1. The proposed effective date of such tariff sheets is June 14, 2000.

Cove Point states that the purpose of this filing is to comply with the Commission's Regulation of Short-Term Natural Gas Transportation Services and Regulation of Interstate Natural Gas Transportation Services in Docket Nos. RM98-10-000 and RM98-12-000 (Order No. 637). Among other things, the Commission in Order No. 637 revised its regulations regarding releases of capacity for less than one year (short-term releases). The Commission waived the rate ceiling for short-term releases until September 30, 2002, and clarified its posting and bidding requirements for short-term releases.

The changes to the capacity release regulations became effective on March 26, 2000, however the Commission allowed pipelines to remove inconsistent tariff provisions within 180 days of the issuance of Order No. 637. In compliance, Cove Point is making the following revisions to its tariff sheets. First, Section 4 of Rate Schedules FPS-1, FPS-2, FPS-3, and FTS-1 is being changed to state that the maximum rate ceiling does not apply to short-term releases until September 30, 2002. Second, Section 4 of the aforementioned rate schedules and Section 10 of the General Terms and Conditions are being modified to state that the rates for short-term releases in this time frame are not subject to refund. Third, Section 10 of the General Terms and Conditions is being changed to reflect the Commission's modifications to the posting and bidding requirements for short-term releases of capacity and to incorporate the waiver of the maximum rate ceiling as described above.

Cove Point states that copies of the instant filing are being mailed to customers, State Commissions, and other interested parties. In accordance with the provisions of Section 154.16 of the Commission's Regulations, copies of this filing are available for public inspection, during regular business hours, in a convenient form and place at Cove Point's main offices at 2800 Post Oak boulevard in Houston, Texas.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-20899 Filed 8-16-00; 8:45 am]

BILLING CODE 6717-01-M